ENVIRONMENTAL PROTECTION AGENCY

40 CFR Part 22

[FRL-7439-7]

Change of Physical Location of EPA's Environmental Appeals Board

AGENCY: Environmental Protection Agency (EPA).

ACTION: Final rule.

SUMMARY: The Environmental Appeals Board (EAB) of the U.S. Environmental Protection Agency has relocated its office and today is amending the address as it is referenced in the regulation on Consolidated Rules of Practice Governing the Administrative Assessment of Civil Penalties and the Revocation/Termination or Suspension of Permits.

DATES: This final rule is effective on January 16, 2003.

FOR FURTHER INFORMATION CONTACT: Eurika Durr, Clerk of the Board. Telephone number: (202) 233-0122. Email: Durr.Eurika@epa.gov.

SUPPLEMENTARY INFORMATION: This action is directed to the public in general, and in particular to anyone who may need or want to visit or submit documents to the office of the EAB. If you have questions regarding the applicability of this action to a particular entity, consult the person listed under FOR FURTHER INFORMATION CONTACT.

I. Background

A. What Action Is the Agency Taking?

The EAB has relocated its office from one office building to another in downtown Washington, DC. The current physical location of the EAB is Suite 500, 607 14th Street, NW., Washington, DC. This address is referenced in the Consolidated Rules of Practice Governing the Administrative Assessment of Civil Penalties and the Revocation/Termination or Suspension of Permits (CROP), 40 CFR part 22, which provides, in pertinent part, that:

Within 30 days after the initial decision is served, any party may appeal any adverse order or ruling of the Presiding Officer by filing an original and one copy of a notice of appeal and an accompanying appellate brief with the Environmental Appeals Board (Clerk of the Board, (Mail Code 1103B), United States Environmental Protection Agency, 1200 Pennsylvania Ave., NW., Washington, DC 20460. Hand deliveries may be made at Suite 500, 607 14th Street, NW.).

40 CFR 22.30(a). On December 9, 2002, the EAB relocated its office to Suite 600, 1341 G Street, NW. The purpose of this amendment is to delete the sentence in 40 CFR 22.30(a) which provides that “[h]and deliveries may be made at Suite 500, 607 14th Street, NW.,” and to substitute a sentence which provides that “[h]and deliveries may be made at Suite 600, 1341 G Street, NW.” The amendment will have no effect on any documents that are filed at the EAB's official mailing address, which is 1200 Pennsylvania Ave., NW.

B. How Can I Get Additional Information About This Action?

You may obtain additional information about this action on the EAB's Internet home page at http://www.epa.gov/eab.

C. What Is the Agency's Authority for Taking This Action?

EPA is issuing this document under its general rulemaking authority. Reorganization Plan No. 3 of 1970 (5 U.S.C. app.). In addition, section 553 of the Administrative Procedure Act, 5 U.S.C. 553(b)(B), provides that, when an agency for good cause finds that notice of public procedure are impracticable, unnecessary or contrary to the public interest, the agency may issue a rule without providing notice and an opportunity for public comment. EPA has determined that this amendment is technical and non-substantive, and therefore, that there is good cause under 5 U.S.C. 553(b)(B) for making this rule final without prior proposal and opportunity for comment.

II. Do Any of the Regulatory Assessment Requirements Apply to This Action?

No. This final rule implements a technical amendment to 40 CFR part 22 to reflect a change in the physical location of the office of the EAB, and does not otherwise impose or amend any requirements. This action is not a “significant regulatory action” and is therefore not subject to review by the Office of Management and Budget under Executive Order 12866, entitled Regulatory Planning and Review (58 FR 51735, October 4, 1993). This rule does not contain any information collection requirements that require review and approval by OMB pursuant to the Paperwork Reduction Act of 1995 (44 U.S.C. 3501 et seq.). Because this action is not economically significant as defined by section 3(f) of Executive Order 12866, this action is not subject to Executive Order 13045, Protection of Children from Environmental Health Risks and Safety Risks (62 FR 19885, April 23, 1997). Since the Agency has made a “good cause” finding that this action is not subject to notice-and-comment requirements under the APA or any other statute, this action is not subject to provisions of the Regulatory Flexibility Act (5 U.S.C. 601 et seq.), or to sections 202 and 205 of the Unfunded Mandate Reform Act of 1995 (UMRA) (Pub. L. 104-94). In addition, this action does not impose any enforceable duty, contain any unfunded mandate, or impose any significant or unique impact on small governments as described in the UMRA of 1995. This rule will not have substantial direct effects on the States, on the relationship between the national government and the States, or on the distribution of power and responsibilities among the various levels of government, as specified in Executive Order 13132, entitled Federalism (64 FR 43255, August 10, 1999). Similarly, this rule will not have substantial direct effects on tribal governments, or on the distribution of power and responsibilities between the Federal government and Indian tribes, as specified in Executive Order 13175, entitled Consultation and Coordination with Indian Tribal Governments (65 FR 67249, November 6, 2000). This action does not involve any technical standards that require the Agency's consideration of voluntary consensus standards pursuant to section 12(d) of the National Technology Transfer and Advancement Act of 1995 (NTTAA), Public Law 104-113, section 12(d) (15 U.S.C. 272 note). This rule is not subject to Executive Order 13211, entitled Actions Concerning Regulations That Significantly Affect Energy Supply, Distribution, or Use (66 FR 28355, May 22, 2001), because this action is not a significant regulatory action under Executive Order 12866.

III. Will EPA Submit This Final Rule to Congress and the Comptroller General?

Yes. The Congressional Review Act (CRA), 5 U.S.C. 801 et seq., generally provides that, before a rule may take effect, the agency that promulgates the rule must submit a rule report, which includes a copy of the rule, to each House of the Congress and to the Comptroller General of the United States. CRA section 808 provides that the issuing agency may make a rule effective sooner than otherwise provided by the CRA if the agency makes a good cause finding that notice and public procedure is impracticable, unnecessary, or contrary to the public interest. EPA has made such a good cause finding, including the reasons therefor, and has established the date of publication as the effective date. As stated previously, EPA will submit a report containing this rule and other required information to the U.S. Senate, the U.S. House of Representatives, and the Comptroller General of the United States, prior to publication of the rule in the Federal Register. This action is not a “major rule” as defined by 5 U.S.C. 804(2).

List of Subjects in 40 CFR Part 22

Environmental protection, Administrative practice and procedure.

Dated: January 9, 2003.
Christine Todd Whitman,
Administrator.

40 CFR Part 22 is amended as follows:

1. The authority citation for Part 22 continues to read as follows:

Authority: 7 U.S.C. 136(l); 15 U.S.C. 2615; 33 U.S.C. 1319, 1342, 1361, 1415 and 1418; 42 U.S.C. 300g-3(g), 6912, 6925, 6928, 6991e and 6992d; 42 U.S.C. 7413(d), 7524(c), 7545(d), 7547, 7601 and 7607(a), 9609, and 11045.

2. Section 22.30(a)(1) is amended by revising the second sentence to read as follows:

§ 22.30 Appeal from or review of initial decision.

(a) * * * (1) * * * Hand deliveries may be made at Suite 600, 1341 G Street, NW.).* * *

* * * * *

[FR Doc. 03-963 Filed 1-15-03; 8:45 am]

BILLING CODE 6560-50-U